DEPARTMENT OF HEALTH AND HUMAN SERVICES

Health Resources and Services Administration

National Advisory Council on Migrant Health; Notice of Meeting

In accordance with section 10(a)(2) of the Federal Advisory Committee Act (Pub. L. 92-463), notice is hereby given of the following meeting:

Name: National Advisory Council on Migrant Health.

Dates and Times: January 30, 2006, 9 a.m. to 5 p.m. January 31, 2006, 9 a.m. to 5 p.m.

Place: 5600 Fishers Lane, Conference Room C, 3rd Floor, Rockville, Maryland 20857.

Status: The meeting will be open to the public.

Agenda: The agenda includes an overview of the Council's general business activities. The Council will also develop recommendations to the Secretary of Health and Human Services. Finally, the Council will hear presentations from experts on farmworker issues, including the status of farmworker health at the local and national level.

Agenda items are subject to change as priorities indicate.

For Further Information Contact: Anyone requiring information regarding the Council should contact Gladys Cate, Office of Minority and Special Populations, staff support to the National Advisory Council on Migrant Health, Bureau of Primary Health Care, Health Resources and Services Administration, 5600 Fishers Lane, Rockville, Maryland 20857, Telephone (301) 594-0367.

Dated: January 5, 2006.
Tina M. Cheatham,
Director, Division of Policy Review and Coordination.

[FR Doc. E6-171 Filed 1-11-06; 8:45 am]

BILLING CODE 4165-15-P